DEPARTMENT OF TRANSPORTATION

Federal Aviation Administration

14 CFR Part 39

[Docket No. 2002-NE-39-AD]

RIN 2120-AA64

Airworthiness Directives; Turbomeca S.A. Arrius-2F Turboshaft Engines

AGENCY: Federal Aviation Administration, DOT.

ACTION: Notice of proposed rulemaking (NPRM).

SUMMARY: The Federal Aviation Administration (FAA) proposes to adopt a new airworthiness directive (AD) that is applicable to Turbomeca S.A. Arrius-2F turboshaft engines with certain serial number (SN) Fuel Control Units (FCU's). This proposal would require adjusting the FCU maximum fuel flow mechanical stop position to a higher fuel flow setting. This proposal is prompted by an FCU discovered to have a maximum fuel flow limit adjusted below the maximum required setting. The actions specified by the proposed AD are intended to prevent reduced maximum available power during takeoff, landing, or an emergency, which could significantly affect helicopter performance and result in loss of the helicopter.

DATES: Comments must be received by April 7, 2003.

ADDRESSES: Submit comments in triplicate to the Federal Aviation Administration (FAA), New England Region, Office of the Regional Counsel, Attention: Rules Docket No. 2002-NE-39-AD, 12 New England Executive Park, Burlington, MA 01803-5299. Comments may be inspected at this location, by appointment, between 8 a.m. and 4:30 p.m., Monday through Friday, except Federal holidays. Comments may also be sent via the Internet using the following address: 9-ane-adcomment@faa.gov. Comments sent via the Internet must contain the docket number in the subject line.

The service information referenced in the proposed rule may be obtained from Turbomeca S.A., Turbomeca S.A., 64511 Bordes Cedex, France; telephone 33 05 59 64 40 00, fax 33 05 59 64 60 80. This information may be examined, by appointment, at the FAA, New England Region, Office of the Regional Counsel, 12 New England Executive Park, Burlington, MA.

FOR FURTHER INFORMATION CONTACT: Antonio Cancelliere, Aerospace Engineer, Engine Certification Office, FAA, Engine and Propeller Directorate, 12 New England Executive Park, Burlington, MA 01803-5299; telephone (781) 238-7751; fax (781) 238-7199.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NE-39-AD.” The postcard will be date stamped and returned to the commenter.

Availability of NPRM's

Any person may obtain a copy of this NPRM by submitting a request to the FAA, New England Region, Office of the Regional Counsel, Attention: Rules Docket No. 2002-NE-39-AD, 12 New England Executive Park, Burlington, MA 01803-5299.

Discussion

The Direction Generale de L'Aviation Civile (DGAC), which is the airworthiness authority for France, recently notified the FAA that an unsafe condition may exist on Turbomeca S.A. Arrius-2F turboshaft engines. The DGAC advises that during shop visit for repair, an FCU was discovered to have a maximum fuel flow limit adjusted below the maximum required setting. Upon investigation, the manufacturer has identified 67 Fuel Control Units by serial number as having maximum fuel flow mechanical stops set too low.

Manufacturer's Service Information

Turbomeca S.A has issued Alert Service Bulletin (ASB) No. A319 73 4808, dated September 1, 2000, that specifies for FCU's part numbers (P/N's) 0 319 92 832 0, 0 319 92 830 0, and 0 319 92 825 0, with the SN's listed in the SB, adjustment of the FCU maximum fuel flow mechanical stop position to the correct fuel flow setting.

The DGAC classified this alert service bulletin as mandatory and issued AD 2000-482(A), dated November 29, 2000, in order to assure the airworthiness of these Turbomeca S.A. Arrius-2F turboshaft engines in France.

Bilateral Agreement Information

This engine model is manufactured in France and is type certificated for operation in the United States under the provisions of Section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Proposed Requirements of this AD

Since an unsafe condition has been identified that is likely to exist or develop on other Turbomeca S.A. Arrius-2F turboshaft engines of the same type design that are used on helicopters registered in the United States, the proposed AD would require within 120 days after the effective date of the proposal, on the serial number FCU's listed in the proposal, adjusting the maximum fuel flow mechanical stop position to the correct fuel flow setting which, if not adjusted could significantly affect helicopter performance. The actions would be required to be done in accordance with the alert service bulletin described previously.

Economic Analysis

There are approximately 334 engines of the affected design in the worldwide fleet. The FAA estimates that of the 63 engines installed on aircraft of U.S. registry, four engines would be affected by this proposed AD. The FAA also estimates that it would take approximately 3 work hours per engine to accomplish the proposed actions, and that the average labor rate is $60 per work hour. Required tooling would cost approximately $300 per engine. Based on these figures, the total cost of the proposed AD to U.S. operators is estimated to be $1,920. The manufacturer has advised the FAA and DGAC that the operator may be provided with material and tooling at no cost to the operator, thereby substantially reducing the cost of the proposed rule.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Turbomeca S.A.: Docket No. 2002-NE-39-AD.

Applicability: This airworthiness directive (AD) is applicable to Turbomeca S.A. Arrius -2F turboshaft engines with Fuel Control Units (FCU's) part numbers (P/N's) 0 319 92 832 0, 0 319 92 830 0, and 0 319 92 825 0, with FCU serial numbers (SN's) in the following Table 1:

Table 1.—Affected FCU Serial Numbers
102B | 135B | 166B
103B | 136B | 167B
104B | 137B | 168B
105B | 138B | 169B
106B | 139B | 171B
107B | 140B | 173B
108B | 141B | 174B
110B | 142B | 175B
111B | 143B | 176B
112B | 144B | 177B
113B | 145B | 178B
114B | 146B | 180B
115B | 148B | 181B
116B | 149B | 182B
118B | 150B | 183B
120B | 153B | 185B
122B | 155B | 186B
123B | 156B | 190B
124B | 158B | 191B
126B | 159B | 193B
129B | 161B | 199B
132B | 164B | N/A
133B | 165B | N/A

These engines are installed on, but not limited to Eurocopter 120B “Colibri” helicopters.

Note 1: This airworthiness directive (AD) applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Compliance with this AD is required within 120 days after the effective date of this AD, unless already done.

To prevent reduced maximum available power during takeoff, landing, or an emergency, which could significantly affect helicopter performance, and result in loss of the helicopter, do the following:

(a) For FCU's listed in the applicability of this AD, adjust the maximum fuel flow mechanical stop position to a higher fuel flow setting, in accordance with paragraphs 2.A.(1) and 2.B.(1) of Turbomeca S.A Alert Service Bulletin (ASB) No. A319 73 4808, dated September 1, 2000.

(b) Perform a ground run check and a check flight in accordance with paragraph 2.C.(1) of Turbomeca S.A ASB No. A319 73 4808, dated September 1, 2000.

Alternative Methods of Compliance

(c) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Special Flight Permits

(d) Special flight permits may be issued in accordance with §§ 21.197 and 21.199 of the Federal Aviation Regulations (14 CFR 21.197 and 21.199) to operate the helicopter to a location where the requirements of this AD can be done.

Note 3: The subject of this AD is addressed in Direction Generale de L'Aviation Civile AD 2000-482(A), dated November 29, 2000.

Issued in Burlington, Massachusetts, on January 29, 2003.
Jay J. Pardee,
Manager, Engine and Propeller Directorate, Aircraft Certification Service.

[FR Doc. 03-2633 Filed 2-4-03; 8:45 am]

BILLING CODE 4910-13-P